DEPARTMENT OF LABOR

Employment and Training Administration

Notice of Reestablishment of Advisory Committee on Apprenticeship (ACA)

AGENCY: Employment and Training Administration, Labor.

ACTION: Reestablishment of the Advisory Committee on Apprenticeship (ACA).

SUMMARY: Notice is hereby given that after consultation with the General Services Administration, the Department of Labor has determined that the reestablishment of a national advisory committee on apprenticeship is necessary and in the public interest. Accordingly, the Employment and Training Administration has chartered the Advisory Committee on Apprenticeship (ACA) which succeeds the Federal Committee on Registered Apprenticeship (FCRA). The charter for the FCRA expired on January 19, 2003. The current charter was signed February 13, 2003, and will expire two years from that date.

FOR FURTHER INFORMATION CONTACT: Mr. Anthony Swoope, Administrator, Office of Apprenticeship Training, Employer and Labor Services, Employment and Training Administration, U.S. Department of Labor, Room N-4671, 200 Constitution Avenue, NW., Washington, DC 20210. Telephone: (202) 693-2796, (this is not a toll-free number).

Signed in Washington, DC, this 1st day of April 2003.
Emily Stover DeRocco,
Assistant Secretary for Employment and Training Administration.

[FR Doc. 03-8337 Filed 4-4-03; 8:45 am]

BILLING CODE 4510-30-M